DEPARTMENT OF TRANSPORTATION

Federal Railroad Administration

Broad Agency Announcement 2003-1, Funds Availability for Research Projects and Technology Advancements Under the Next Generation High-Speed Rail Program

AGENCY: Federal Railroad Administration (FRA), Department of Transportation (DOT).

ACTION: Notice of funds availability: Broad agency announcement (BAA) for research projects and technology advancements under the Next Generation High-Speed Rail Program.

Introduction

The Federal Railroad Administration (FRA) is soliciting proposal concept papers for various research projects, technology advancements and/or demonstrations, which can enhance the deployment of high-speed rail service in the United States. Technologies most likely to help facilitate the deployment of high-speed rail service are those which will (a) enhance the revenue-generating capability of high-speed operations by attracting greater ridership by reducing trip times, upgrading customer service quality, increasing reliability, or improving on time performance; (b) bring about capital cost reductions and economy in producing equipment and facilities; (c) reduce operating costs of high-speed rail service by providing more efficient operations; (d) improve the reliability of equipment and infrastructure components by reducing failures and/or reducing false failure detections; (e) improve safety by reducing human and technology failures; and/or (f) enhance the social benefits and/or environmental aspects of high-speed rail.

Eligible Participants

This is an unrestricted solicitation. Any responsible source may submit a proposal concept paper for consideration, including, but not limited to, states or local governments, or organizations of state or local governments, universities or institutions of higher education, hospitals, non-profit organizations, private individuals, corporations, businesses or commercial organizations, except that any business owned in whole or in part by the Federal Government is not eligible. Although businesses owned in whole or in part by the Federal Government are not eligible for funding under the Program, they may contract with eligible participants. Cooperative arrangements (e.g., joint ventures, limited partnerships, teaming arrangements, or collaboration and consortium arrangements) are permitted and encouraged. Small, Small Disadvantaged (SD), and Service-Disabled Veteran-Owned Business Concerns, and Veteran-Owned (VO) and Woman-Owned (WO), and Historically Underutilized Business Zone (HUBZone) Small Business Concerns, and Historically Black Colleges and Universities (HBCU) and Minority Institutions (MIs) are encouraged to submit proposal concept papers on their own and/or in collaboration with others. However, no portion of this BAA will be set aside or reserved exclusively for Small, SD, or Service-Disabled Veteran-Owned Business Concerns, or for VO, WO, or HUBZone Small Business Concerns, or for HBCU and MIs.

Exchanges and Points of Contact

Exchanges of information between interested parties and the Government, prior to submission of proposal concept papers, are strongly encouraged. Such informal exchanges may provide potential offerors with preliminary information on the Government's level of interest in prospective works or projects and possibly forestall costly effort on the part of interested parties whose proposed work may not be of interest to the FRA under this BAA. Any exchanges of information must be consistent with procurement integrity requirements of section 27 of the Office of Federal Procurement Policy Act (41 U.S.C. 423, as amended) (see Federal Acquisition Regulation (FAR) 3.104). For pre-submission technical inquires, interested parties may contact the BAA primary technical point of contact, Mr. Robert McCown (Tel: 202/493-6350, Fax: 202/493-6333), or one of the other, secondary technical points of contact identified in Appendix A of the BAA 2003-1 Proposal Preparation Package, located at the following address: http://www.eps.gov/EPSData/DOT/Synopses/1042/BAA-2003-1/ (* See Note). Offerors are advised that an indication of interest, in the affirmative, is not meant to imply nor in any way imparts an obligation on the part of the Government that an award will be forthcoming for the offered work or project. All non-technical inquiries should be directed to the Grants/Contracting Officers, Mr. Robert Carpenter (Tel: 202/493-6153, Fax: 202/493-6171, Email: robert.carpenter@fra.dot.gov) or Ms. Illona Williams (Tel: 202/493-6130, Fax: 202/493-6171, Email: illona.williams@fra.dot.gov). After submission of proposals, all exchanges (both technical and non-technical) will be conducted through the Grants/Contracting Officers in accordance with FAR 15.306.

BAA Time Line

BAA 2003-1 will be open from the date of posting of the BAA 2003-1 Proposal Preparation Package on FedBizOpps, formerly known as the Electronic Posting System (EPS), through June 30, 2004. Prospective offerors may submit and the FRA will accept proposal concept papers as of the date the BAA 2003-1 Proposal Preparation Package is posted on FedBizOpps and/or the Federal Register. Unless BAA 2003-1 is superseded or canceled, FRA will continue to accept concept submissions and inquiries through June 30, 2004. Although the BAA is open for an extended period, interested parties would be well advised to submit proposals as early as possible. Once posted, the BAA 2003-1 Proposal Preparation Package may be download or printed from the following Internet address: http://www.eps.gov/EPSData/DOT/Synopses/1042/BAA-2003-1/ (* See Note). The FRA does not intend to make the BAA 2003-1 Proposal Preparation Package available in hard copy. Reviews will begin and will be conducted continuously on receipt of concept papers. Offerors will be notified as soon as initial reviews are completed. FRA's target for initial review results is 120 days after submission.

Funding Authority and Related Information

Funds for this program are authorized in the Consolidated Appropriations Resolution, 2003, Public Law 108-7 (February 20, 2003). FRA will make available up to $6.5 million under the BAA during fiscal year 2003 (FY 03) and fiscal year 2004 (FY 04), through the BAA 2003-1 open period, for awards of proposal concept papers evaluated favorably and determined by the FRA to be consistent with the objectives of this BAA and of interest to the Government, and for which adequate funding exists. FY 03 awards are subject to the availability of FY 03 appropriations or the continued availability of unobligated FY 02 or other prior no-year funds. No funding provision or commitment can be made at the time of award for phased or expanded work or projects beyond the initial or base phase funded at time of award that the applicant may propose in its submissions. In the event future appropriated funds are authorized for the Program, FRA may, at its discretion, provide additional funding for phased or expended effort under existing awards. Awards may be of any dollar value (so long as those amounts do not exceed the total amount available under the BAA), but it is anticipated that most, if not all, individual awards (or that part of the Government's portion in a cost sharing arrangement) will have dollar values ranging between $25,000 and $500,000 each. Prospective offerors are advised that contract awards greater than $500,000 will generally require the awardee (except a small business concern) to already have in place or prepare, at or before the time of award, an acceptable plan to maximize the participation of small business enterprises to include separate goals for using small and SD businesses, and WO, VO, and HUBZone small businesses as subcontractors. Prospective offerors are advised that contract awards greater than $500,000 may require the submission and certification of cost and pricing data. Although cost sharing by awardees is not mandatory under this BAA, because of the potential for long-term benefits to those firms or institutions involved in these research development and demonstration activities, it is FRA's policy to obtain cost participation, whenever possible. This is preferred when FRA supports research, development, or demonstration efforts, where the principal purpose is ultimate commercialization and utilization of the technologies by the private sector, and when there are reasonable expectations that the offeror will receive present or future economic benefits beyond the instant contract/agreement as a result of performance of the effort. For the purposes of this BAA, cost participation is a generic term denoting any situation where the Government does not fully reimburse the offeror for all allowable costs necessary to accomplish the project or effort under the contract or other award instrument. The term encompasses cost sharing, cost matching, participation in-kind or other investment of resources as a means of venture sharing in lieu of a formal cost sharing arrangement, third-party in-kind contributions, cost limitations (direct or indirect) and similar concepts. Generally, many forms of cost participation, by their very nature and definition, minimize or negate the opportunity for profit or fee. Prospective offerors are cautioned that only the cognizant Grants/Contracting Officers can legally commit the Government to the expenditure of public funds under this BAA.

Awards

An offer must be found acceptable under all applicable evaluation factors and subfactors to be considered eligible for award. All evaluation factors other than cost or price, when combined, are significantly more important than cost or price alone. Technical evaluation is appreciably more important than cost or price and, as such, greater consideration shall be given to technical excellence rather than cost or price alone. Cost or price is somewhat more important than past performance and, as such, greater consideration shall be given to cost or price rather than past performance alone. Tradeoffs, as described in FAR Part 15, are also allowed. Awards will be made to those responsible offerors whose offers provide the best value to the Government, in terms of technical excellence, cost or price, and performance risk (as applicable), and other factors—to include consistency and accord with the objectives of the BAA and the FRA's mission and its interest in pursuing the proposed research project, technology advancement and/or demonstration. Awards may take the form of contracts, grants or cooperative agreements. Contracts will be used when the principal purpose is the acquisition of supplies or services (including research and development) for the direct benefit or use of the Federal Government. It is anticipated that most contracts resulting from this BAA will be cost-reimbursement type contracts (i.e., cost, cost-sharing, or cost-plus-fixed-fee). These types of contracts permit reimbursement of the actual cost of performing the contracted work, and may or may not allow for profit or fee. Cost-reimbursement contracts are suitable for use only when uncertainties in contract performance do not permit costs to be estimated with sufficient accuracy to use any type of fixed-price contract. Some contracts resulting from this BAA may be awarded on a fixed-price basis (e.g., firm-fixed price completion, or firm-fixed-price level-of-effort term contracts). Fixed-price contracts are used when the research/work effort can be estimated accurately and the services to be rendered are reasonably definite. Other contract types, as described in FAR Part 16, may also be used. To the maximum extent practicable, the Government will structure contracts awarded under the BAA using “Performance-based contracting” methods. As described in FAR Part 37.6, performance-based contracting methods are intended to ensure that required performance quality levels are achieved and that total payment is related to the degree that services performed meet contract standards. Performance-based contracts (a) describe the requirements in terms of results required rather than the methods of performance of the work; (b) use measurable performance standards (i.e., terms of quality, timeliness, quantity, etc.) and quality assurance surveillance plans; (c) specify procedures for reductions of fee or for reductions to the price of a fixed-price contract when services are not performed or do not meet contract requirements; and (d) include performance incentives where appropriate. Because of the broad range and diversity of activities that may be proposed under the BAA, it does not lend itself to the use of a common work statement. As such, no single North American Industry Classification System (NAICS) code (formerly Standard Industrial Classification (SIC) codes), will be issued for the BAA. NAICS codes will be specific to each individual contract award, as determined by the type of activity in which the actual offeror will be engaged, and as a function of the ownership characteristics of the prospective offeror. Grants or cooperative agreements will be used when the principal purpose of the transaction is to stimulate or support research and development for public purposes. When awarding federal financial assistance through a grant or a cooperative agreement, the most appreciable difference in choosing between the two forms will be the level of involvement between the FRA and the recipient when carrying out the activity contemplated in the agreement. Substantial FRA involvement is permitted in cooperative agreements. Offers (i.e., proposal concept papers) being pursued as (or which are subsequently determined by FRA as) Federal financial assistance (e.g., grants or cooperative agreements), must be accompanied by the appropriate application forms. Applicants may include in their submissions for consideration an opinion on the type of award instrument they consider would be the most suitable or appropriate venue for their proposed research projects, technology advancements or demonstrations. This will normally also be reflected in the structure of the cost/price portion of the applicants' proposals. All awards will be subject to the availability of funds. Prospective offerors are cautioned that only the Grants/Contracting Officer can legally commit the Government to the expenditure of public funds under this BAA.

Areas of Technology Interest

Technologies that are high priority research candidates for evaluation pursuant to this announcement include (a) grade crossing hazard mitigation systems, (b) innovative, low cost technologies to improve track and structures, (c) advanced train control systems, (d) non-electric locomotives and passenger equipment systems, and (f) other scientific study, technology adaptation, or demonstration directed toward advancing the state-of-the-art or increasing the knowledge or understanding of high-speed passenger rail service in the U.S.

Proposal Concept Papers and Preparation Instructions

Proposal concept papers should be twenty (20) pages or less (except as otherwise noted), in letter print no less than 10 point type, on letter-size paper, numbered, and fully legible in all required copies. Each concept should be submitted only once. An offeror's submission of substantially the same concept (under different topical Areas of Interest) will only be evaluated once. FRA will consider each proposal concept paper in the topical Area of Interest identified in the BAA that is most relevant and provides for the greatest opportunity or chance for award. Proposal concept paper submissions should not include promotional brochures, advertisements, taped recordings, or other extraneous material. Proposal concept paper submissions must contain a Technical Concept Section and a separate Cost or Pricing Section. A separate Past Performance Information Section is also required from all offerors other than state or local governments, or organizations of state or local governments, or universities or institutions of higher education where the total estimated project cost is $100,000 or greater. A separate Optional Phased or Follow-on Section is required for concepts involving phased or follow-on research projects. Offers (i.e., proposal concept papers) being pursued as (or which are subsequently determined by FRA as) Federal financial assistance awards (e.g., grants or cooperative agreements) should be accompanied by the appropriate application forms or related submission materials. Successful offers that are to be awarded as Federal financial assistance must have the appropriate application forms in place prior to award. Submissions that are incomplete or materially lacking, pursuant to the instructions in the BAA 2003-1 Proposal Preparation Package, may be returned unevaluated, or evaluated as is, without further opportunity for revision, at the discretion of the Source Selection Authority. Specific content and format requirements and additional instructions for preparing submissions, as well as further information on the areas of interest themselves and the evaluation/selection process, are provided in the BAA 2003-1 Proposal Preparation Package, available at the following location: http://www.eps.gov/EPSData/DOT/Synopses/1042/BAA-2003-1/ (* See Note).

Evaluation Criteria

Proposal concept papers (and other submissions, if and when requested) will be evaluated using the following criteria, which are listed in descending order of relative importance: (1) The relationship of the proposed research project, technology advancement and/or demonstration to the FRA's mission and its potential to advance U.S. high-speed rail technology, and the extent to which its application to railroad operations would improve intercity passenger operations through improved railroad capital equipment or infrastructure, traffic control centers, interfaces among these, or operating methods, and/or its potential for performance improvement in one or more qualities such as, cost effectiveness, reliability, safety, availability, or maintainability. (2) The overall scientific and/or technical merit of the proposal. (3) The technical qualifications and demonstrated experience of key personnel proposed to perform the technical efforts. (4) The administrative qualifications and demonstrated experience of the proposing organization to support the project. (5) The reasonableness and realism of the proposed costs and fee (if any). (6) The extent of any proposed cost sharing/cost participation under the proposed effort (exclusive of the offeror's prior investment). (7) The extent or level of relevant corporate past performance, or relevant past performance by key personnel or by subcontractors or parties to cooperative arrangements. (Note: Assessments of past performance will not be applicable to offers/applications from states or local governments or organizations of state or local governments, or universities or institutions of higher education.) This announcement constitutes the only solicitation. No other request for proposals or announcements will be issued. The complete BAA 2003-1 Proposal Preparation Package can be found at: http://www.eps.gov/EPSData/DOT/Synopses/1042/BAA-2003-1/ (* See Note).

* Note: In the event that this link fails to lead to the directory for the BAA 2003-1 Proposal Preparation Package, it can be found by performing a search from FedBizOpps Home Page: http://www.fedbizopps.gov/. From the homepage, select “Find Business Opportunities”, and then perform a search for “BAA 2003-1” under Department of Transportation, Federal Railroad Administration.

Dated: June 9, 2003
Mark Yachmetz,
Associate Administrator for Railroad Development.

[FR Doc. 03-16459 Filed 6-27-03; 8:45 am]

BILLING CODE 4910-06-P